DEPARTMENT OF ENERGY

Federal Energy Regulatory Commission

[Docket No. ER95-1528-011, et al.]

Wisconsin Public Service Corporation, et al.; Electric Rate and Corporate Filings

April 29, 2005.

The following filings have been made with the Commission. The filings are listed in ascending order within each docket classification.

1. Sheboygan Power, LLC and Wisconsin Power and Light Company

[Docket No. EC05-73-000]

Take notice that on April 26, 2005, Alliant Energy Corporate Services, Inc., (AECS) on behalf of Sheboygan Power, LLC (SPLLC), and Wisconsin Power and Light Company (WPL), (collectively, Applicants) filed an application requesting the Commission to authorize SPLLC's transfer of control over limited FERC-jurisdictional generator interconnection facilities to WPL (the transfer). AECS states that the transfer will arise in the context of SPLLC's development and lease to WPL of a new, approximately 300 MW generating facility in Wisconsin pursuant to Wisconsin's “Leased Generation Law”, subject to state regulatory oversight and approval.

Comment Date: 5 p.m. eastern time on May 17, 2005.

2. Oklahoma Municipal Power Authority v. American Electric Power Service Corp.

[Docket No. EL05-38-002

Take notice that, on April 25, 2005, American Electric Power Service Corporation (AEP) submitted an unexecuted Network Integration Transmission Service Agreement with Oklahoma Municipal Power Authority pursuant to the Commission's order issued March 4, 2005 in Oklahoma Municipal Power Authority v. American Electric Power Service Corp., 110 FERC ¶ 61,228 (2005).

AEP states that copies of the filing were served on parties on the official service list in the above-captioned proceeding.

Comment Date: 5 p.m. eastern time on May 16, 2005.

3. Wisconsin Public Service Corporation, WPS Power Development, Inc., and WPS Energy Services, Inc. (Docket Nos. ER95-1528-011 and ER96-1088-036); Combined Locks Energy Center, LLC (ER01-2659-005); WPS Empire State, Inc. (ER02-2199-003); WPS Beaver Falls Generation, LLC (ER03-54-003); WPS Niagara Generation, LLC (ER03-55-003); WPS Syracuse Generation, LLC (ER03-56-003); Mid-American Power, LLC (ER96-1858-016); Quest Energy, LLC (ER03-674-003); Sunbury Generation, LLC (ER99-3420-005) WPS Canada Generation, Inc. and WPS New England Generation, Inc. (ER99-1936-004); WPS Westwood Generation, LLC (ER01-1114-004); Advantage Energy, Inc. (ER97-2758-011); and Upper Peninsula Power Company (ER05-89-00)

Take notice that on April 25, 2005, WPS Resources Corporation (WPSR), on behalf of its subsidiaries listed in the caption above, tendered for filing tariff sheets (Tariff Sheets) in compliance with the Commission's March 25, 2005 order in Wisconsin Public Service Corporation, et al., 110 FERC ¶ 61,353 (2005).

WPSR states that a copy of the filing was served upon all parties to the Commission's official service lists in the above-captioned dockets and the Public Service Commission of Wisconsin.

Comment Date: 5 p.m. eastern time on May 16, 2005.

4. Northeast Utilities Service Company; Select Energy, Inc.; Select Energy New York, Inc; and Northeast Generation Company

[ER99-4463-005, ER99-14-011, and ER02-556-006]

Take notice that on April 25, 2005, Northeast Utilities Service Company, on behalf of The Connecticut Light and Power Company, Western Massachusetts Electric Company, Holyoke Water Power Company, Holyoke Power and Electric Company, and Public Service of New Hampshire (the NU Operating Companies); Select Energy, Inc.; Select Energy New York, Inc.; and Northeast Generation Company jointly submitted a compliance filing pursuant to the Commission's order issued March 24, 2005 in Docket No. ER96-496-010, et al., 110 FERC ¶ 61,237.

Comment Date: 5 p.m. eastern time on May 13, 2005.

5. Direct Energy Services, LLC

[Docket No. ER05-876-000]

Take notice that on April 25, 2005, Direct Energy Services, LLC (Seller) petitioned the Commission for an order: (1) Accepting Seller's proposed FERC Rate Schedule No. 1 for filing; (2) granting waiver of certain requirements under Subparts B and C of Part 35 of the regulations, and (3) granting the blanket approvals normally accorded sellers permitted to sell at market-based rates. Seller has requested that the Commission grant waiver of the 60-day prior notice requirement.

Comment Date: 5 p.m. eastern time on May 16, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-2270 Filed 5-9-05; 8:45 am]

BILLING CODE 6717-01-P